DEPARTMENT OF TRANSPORTATION

14 CFR Part 97

[Docket No. 30661; Amdt. No. 3317]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 14, 2009. The compliance date for each SIAP, associated Takeoff Minimums, and ODP is specified in the amendatory provisions.

The incorporation by reference of certain publications listed in the regulations is approved by the Director of the Federal Register as of April 14, 2009.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on April 3, 2009.
John M. Allen,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs,

FDC date | State | City | Airport | FDC No. | Subject
03/19/09 | IA | LE MARS | LE MARS MUNI | 9/0069 | GPS RWY 18, ORIG
03/20/09 | WA | OLYMPIA | OLYMPIA | 9/0252 | TAKEOFF MINIMUMS AND OBSTACLE DP, AMDT 5
03/20/09 | WA | OLYMPIA | OLYMPIA | 9/0253 | ILS OR LOC RWY 17, AMDT 10A
03/20/09 | WA | OLYMPIA | OLYMPIA | 9/0254 | RNAV (GPS) RWY 17, ORIG
03/20/09 | WA | OLYMPIA | OLYMPIA | 9/0255 | RNAV (GPS) RWY 35, ORIG
03/20/09 | WA | OLYMPIA | OLYMPIA | 9/0256 | VOR/DME RWY 35, AMDT 12
03/20/09 | WA | OLYMPIA | OLYMPIA | 9/0257 | VOR A, AMDT 1
03/20/09 | IA | OSKALOOSA | OSKALOOSA MUNI | 9/0306 | NDB RWY 22, AMDT 3
03/20/09 | CO | COLORADO SPRINGS | CITY OF COLORADO SPRINGS MUNI | 9/0307 | RNAV (GPS) RWY 17R, AMDT 1A
03/20/09 | CA | MERCED | CASTLE | 9/0308 | RNAV (GPS) RWY 31, ORIG
03/20/09 | CA | MERCED | CASTLE | 9/0309 | ILS OR LOC/DME RWY 31, AMDT 2
03/20/09 | CA | MERCED | CASTLE | 9/0310 | RNAV (GPS) RWY 13, ORIG
03/20/09 | WA | SEATTLE | SEATTLE-TACOMA INTL | 9/0313 | ILS OR LOC RWY 16R, ORIG-A, ILS RWY 16R (CAT II), ORIG-A, ILS RWY 16R (CAT III), ORIG-A
03/20/09 | WA | SEATTLE | SEATTLE-TACOMA INTL | 9/0316 | ILS OR LOC RWY 16C, AMDT 13, ILS RWY 16C (CAT II), AMDT 13, ILS RWY 16C (CAT III), AMDT 13
03/23/09 | IN | FORT WAYNE | FORT WAYNE INTL | 9/0317 | TAKEOFF MINIMUMS AND OBSTACLE DP, AMDT 2
03/20/09 | WA | SEATTLE | SEATTLE-TACOMA INTL | 9/0318 | ILS OR LOC RWY 16L, AMDT 4, ILS RWY 16L (CAT II), AMDT 4, ILS RWY 16L (CAT III), AMDT 4
03/20/09 | WA | SEATTLE | SEATTLE-TACOMA INTL | 9/0319 | ILS OR LOC RWY 34L, ORIG, ILS RWY 34L (CAT II), ORIG
03/20/09 | WA | SEATTLE | SEATTLE-TACOMA INTL | 9/0320 | ILS OR LOC RWY 34R, AMDT 1A, ILS RWY 34R (CAT II), AMDT 1A
03/20/09 | WA | SEATTLE | SEATTLE-TACOMA INTL | 9/0321 | ILS OR LOC RWY 34C, AMDT 2A, ILS RWY 34C (CAT II), AMDT 2A
03/20/09 | NE | BROKEN BOW | BROKEN BOW MUNI | 9/0340 | RNAV (GPS) RWY 14, ORIG
03/20/09 | NE | BROKEN BOW | BROKEN BOW MUNI | 9/0341 | VOR/DME RWY 32, ORIG
03/20/09 | NE | BROKEN BOW | BROKEN BOW MUNI | 9/0342 | VOR RWY 14, AMDT 4
03/20/09 | NE | BROKEN BOW | BROKEN BOW MUNI | 9/0343 | RNAV (GPS) RWY 32, AMDT 1
03/23/09 | WI | MILWAUKEE | GENERAL MITCHELL INTL | 9/0349 | ILS OR LOC RWY 19R, AMDT 10A
03/23/09 | WI | MILWAUKEE | GENERAL MITCHELL INTL | 9/0350 | ILS OR LOC RWY 7R, AMDT 15A
03/20/09 | FL | TITUSVILLE | SPACE COAST REGIONAL | 9/0365 | ILS RWY 36, AMDT 10A
03/21/09 | LA | VIVIAN | VIVIAN | 9/0391 | RNAV (GPS) RWY 27, ORIG
03/21/09 | LA | VIVIAN | VIVIAN | 9/0392 | RNAV (GPS) RWY 9, ORIG
03/21/09 | LA | VIVIAN | VIVIAN | 9/0393 | VOR/DME A, AMDT 3
03/21/09 | LA | VIVIAN | VIVIAN | 9/0394 | NDB RWY 9, AMDT 2
03/23/09 | IL | CHICAGO/ROCKFORD | CHICAGO/ROCKFORD INTL | 9/0534 | ILS OR LOC RWY 7, AMDT 1A; ILS RWY 7 (CAT II), AMDT 1A; ILS RWY 7 (CAT III), AMDT 1A
03/23/09 | FL | ST. AUGUSTINE | ST. AUGUSTINE | 9/0576 | VOR RWY 13, ORIG-A
03/23/09 | NY | SARATOGA SPRINGS | SARATOGA COUNTY | 9/0592 | TAKEOFF MINIMUMS AND OBSTACLE DP, AMDT 3
03/25/09 | GA | ROME | RICHARD B. RUSSELL | 9/0827 | RNAV (GPS) RWY 25, ORIG
03/25/09 | GA | ROME | RICHARD B. RUSSELL | 9/0828 | RNAV (GPS) RWY 7, ORIG
03/25/09 | WI | EAU CLAIRE | CHIPPEWA VALLEY RGNL | 9/0864 | ILS OR LOC RWY 22, AMDT 8
03/25/09 | IA | POCAHONTAS | POCAHONTAS MUNI | 9/0865 | TAKE OFF MINIMUMS AND OBSTACLE DP, AMDT 2
03/25/09 | NE | YORK | YORK MUNI | 9/0866 | NDB RWY 35, AMDT 4
03/25/09 | IA | POCAHONTAS | POCAHONTAS MUNI | 9/0867 | VOR/DME OR GPS RWY 29, AMDT 3
03/25/09 | KS | LAWRENCE | LAWRENCE MUNI | 9/0869 | VOR/DME A, AMDT 10
03/25/09 | KS | LAWRENCE | LAWRENCE MUNI | 9/0870 | ILS OR LOC RWY 33, AMDT 1A
03/25/09 | KS | LAWRENCE | LAWRENCE MUNI | 9/0873 | RNAV (GPS) RWY 15, ORIG-A
03/25/09 | OH | WILLOUGHBY | WILLOUGHBY LOST NATION MUNI | 9/0877 | RNAV (GPS) RWY 10, ORIG
03/25/09 | OH | MANSFIELD | MANSFIELD LAHM RGNL | 9/0878 | ILS OR LOC RWY 32, AMDT 16
03/25/09 | OH | MANSFIELD | MANSFIELD LAHM RGNL | 9/0882 | VOR RWY 32, AMDT 7
03/25/09 | OH | MANSFIELD | MANSFIELD LAHM RGNL | 9/0883 | RNAV (GPS) RWY 32, ORIG
03/25/09 | OH | MANSFIELD | MANSFIELD LAHM RGNL | 9/0884 | RADAR-1, AMDT 4
03/25/09 | OH | MANSFIELD | MANSFIELD LAHM RGNL | 9/0885 | VOR RWY 14, AMDT 14
03/25/09 | OH | MANSFIELD | MANSFIELD LAHM RGNL | 9/0886 | RNAV (GPS) RWY 14, ORIG
03/25/09 | IA | DECORAH | DECORAH MUNI | 9/0909 | NDB RWY 29, AMDT 1
03/25/09 | IA | DECORAH | DECORAH MUNI | 9/0910 | VOR RWY 29, AMDT 3A
03/25/09 | IA | DECORAH | DECORAH MUNI | 9/0911 | RNAV (GPS) RWY 29, ORIG
03/25/09 | MO | ST. LOUIS | LAMBERT-ST. LOUIS INTL | 9/0916 | ILS OR LOC RWY 30R AMDT 9B * * * ILS RWY 30R (CAT II) AMDT 9B * * * ILS RWY 30R (CAT III) AMDT 9B
03/25/09 | CA | ONTARIO | ONTARIO INTL | 9/1049 | ILS RWY 26R, AMDT 3
03/25/09 | CA | ONTARIO | ONTARIO INTL | 9/1050 | RNAV (GPS) Y RWY 8L, AMDT 1A
03/25/09 | CA | ONTARIO | ONTARIO INTL | 9/1051 | VOR/DME RWY 8R, ORIG
03/25/09 | CA | ONTARIO | ONTARIO INTL | 9/1052 | RNAV (RNP) Z RWY 26R, ORIG
03/25/09 | CA | ONTARIO | ONTARIO INTL | 9/1055 | RNAV (RNP) Z RWY 26L, ORIG
03/25/09 | CA | ONTARIO | ONTARIO INTL | 9/1056 | RNAV (RNP) Z RWY 8L, ORIG
03/25/09 | CA | ONTARIO | ONTARIO INTL | 9/1057 | RNAV (GPS) Y RWY 26R, AMDT 1
03/25/09 | CA | ONTARIO | ONTARIO INTL | 9/1058 | RNAV (GPS) Y RWY 26L, AMDT 1
03/26/09 | TX | HONDO | HONDO MUNI | 9/1180 | RNAV (GPS) RWY 17L, ORIG
03/26/09 | TX | WHEELER | WHEELER MUNI | 9/1181 | VOR/DME OR GPS A, AMDT 1
03/26/09 | TX | SHERMAN/DENISON | GRAYSON COUNTY | 9/1187 | NDB OR GPS RWY 17L, AMDT 9B
03/26/09 | TX | SHERMAN/DENISON | GRAYSON COUNTY | 9/1189 | ILS RWY 17L, ORIG-A
03/26/09 | TX | SHERMAN/DENISON | GRAYSON COUNTY | 9/1190 | VOR/DME RNAV RWY 35R, ORIG-C
03/26/09 | TX | SHERMAN/DENISON | GRAYSON COUNTY | 9/1191 | VOR/DME A, ORIG-B
03/31/09 | CO | ALAMOSA | SAN LUIS VALLEY REGIONAL/BERGMAN FIELD | 9/1782 | VOR/DME OR GPS B, AMDT 4
03/31/09 | CO | ALAMOSA | SAN LUIS VALLEY REGIONAL/BERGMAN FIELD | 9/1783 | VOR OR GPS A, AMDT 6
03/31/09 | CA | MERCED | MERCED MUNI/MACREADY FIELD | 9/1784 | TAKEOFF MINIMUMS AND OBSTACLE DP, AMDT 5
03/31/09 | CA | MERCED | MERCED MUNI/MACREADY FIELD | 9/1787 | VOR RWY 30, ORIG
03/31/09 | CA | MERCED | MERCED MUNI/MACREADY FIELD | 9/1788 | GPS RWY 12, ORIG-B
03/31/09 | CA | MERCED | MERCED MUNI/MACREADY FIELD | 9/1789 | ILS RWY 30, AMDT 14B
03/31/09 | CA | MERCED | MERCED MUNI/MACREADY FIELD | 9/1790 | LOC BC RWY 12, AMDT 10C
03/31/09 | CA | MERCED | MERCED MUNI/MACREADY FIELD | 9/1791 | RNAV (GPS) RWY 30, ORIG

[FR Doc. E9-8370 Filed 4-13-09; 8:45 am]

BILLING CODE 4910-13-P